DEPARTMENT OF TRANSPORTATION

Federal Motor Carrier Safety Administration

[Docket No. FMCSA-2012-0032]

Commercial Driver's License Standards: Application for Renewal of Exemption; Daimler Trucks North America (Daimler)

AGENCY: Federal Motor Carrier Safety Administration (FMCSA), DOT.

ACTION: Notice of final disposition; granting of application for renewal of exemption.

SUMMARY: FMCSA announces its decision to grant Daimler Trucks North America's (Daimler) application for renewal of an exemption from the requirement for a commercial driver's license (CDL) for one of its commercial motor vehicle (CMV) drivers, Sven Ennerst. Mr. Ennerst has operated safely under this one-year exemption since July 22, 2014. The renewal allows Mr. Ennerst, a Daimler engineering executive who holds a German commercial driver's license, to continue to test-drive Daimler CMVs on U.S. roads to improve Daimler's understanding of product requirements in “real world” environments. FMCSA has concluded that this exemption would likely achieve a level of safety that is equivalent to or greater than the level that would be achieved if Mr. Ennerst were required to obtain a U.S. CDL.

DATES: This exemption is renewed effective July 22, 2015 and will expire July 22, 2017.

FOR FURTHER INFORMATION CONTACT: Mr. Robert Schultz, FMCSA Driver and Carrier Operations Division; Office of Carrier, Driver and Vehicle Safety Standards; Telephone: 202-366-4325. Email: MCPSD@dot.gov.

SUPPLEMENTARY INFORMATION:

Background

Under 49 U.S.C. 31136(e) and 31315, FMCSA may renew an exemption from the CDL requirements of 49 CFR 383.23 for a maximum 2-year period if it finds that “such exemption would likely achieve a level of safety that is equivalent to, or greater than, the level that would be achieved absent such exemption.” The procedures and standards for exemptions are prescribed in part 381 of the Federal Motor Carrier Safety Regulations (FMCSRs) (49 CFR part 350 et seq.). The Agency must provide an opportunity for public comment on the request. The decision of the Agency must be published in the Federal Register (49 CFR 381.315(b)) with the reason for granting or denying the exemption renewal, and, if granted, the specific person or class of persons receiving the exemption, and the regulatory provision or provisions from which exemption is granted. The notice must specify the effective period of the exemption (up to 2 years), and explain the terms and conditions of the exemption. The exemption may be renewed (49 CFR 381.300(b)).

Daimler manufactures CMVs in the U.S. for sale in this country. From time to time, it applies to FMCSA for CDL exemptions allowing individual Daimler employees to operate CMVs on U.S. roads. The employees are engineering executives who design and test advanced CMV safety and emissions technology. They reside in Germany but come to the U.S. three or four times a year to test drive prototype Daimler CMVs in the “real world” environment of U.S. roads. Under 49 CFR 383.23, operators of CMVs are required to hold a CDL issued by a State. Daimler employees are residents of Germany and cannot obtain a CDL in the U.S. because they are not residents of a State. They are duly licensed to operate CMVs in Germany, have years of experience driving CMVs in Europe, and maintain exemplary records of driving safety. Daimler has explained in prior exemption applications that the German knowledge and skills tests and training program that these drivers have undergone are comparable to the CDL licensing programs of the States. Daimler asserts that its CMV drivers operating under the exemption in the U.S. will achieve a level of safety that is equivalent to, or greater than, the level of safety would be obtained by complying with the U.S. requirement for a CDL. Previous exemptions require a U.S. CDL-holder to accompany the Daimler employee operating a CMV. Daimler's prior applications and this Agency's analysis of them are in the docket of this matter referenced above. Most recently, on March 20, 2015, the Agency granted a similar exemption to Daimler driver Martin Zeilinger (80 FR 16511).

On July 22, 2014, FMCSA granted Daimler and its driver Sven Ennerst a one-year exemption from § 383.23 (79 FR 42626). The exemption will expire July 22, 2015. Mr. Ennerst is a Daimler engineering executive and holds a valid German commercial driver's license. Daimler's original application outlines Mr. Ennerst's CMV driving qualifications and experience, and is in the docket.

Daimler Application for Renewal

By letter dated February 18, 2015, Daimler applied for renewal of this exemption for Sven Ennerst for the two-year period beginning July 22, 2015. A copy of the request for renewal is in the docket. Daimler states that Mr. Ennerst typically drives CMVs no more than 200 miles per day over a two-day period, and that only 10 percent of his driving is on two-lane State highways. The rest of his driving is on interstate highways.

Method To Ensure an Equivalent or Greater Level of Safety

As in each of Daimler's exemption requests, FMCSA carefully considered the merits of this application and the driver's demonstrated knowledge and skill in CMV operations. The Agency has received no information indicating that the terms and conditions of Mr. Ennerst's 2014 exemption have not been satisfied fully. FMCSA has previously determined that the process for obtaining a German commercial license is comparable to, or as effective as, the requirements of part 383, and adequately assesses the driver's ability to operate CMVs in the U.S.

Public Comment

On April 16, 2015, FMCSA published notice of this application and provided a period of 60 days for public comment (80 FR 20561). No comments were received.

FMCSA Decision

Based upon the merits of this application, including Mr. Ennerst's extensive CMV driving experience, safety record, and successful completion of the training and testing requisite to a German CDL, FMCSA has concluded that exemption would likely achieve a level of safety that is equivalent to or greater than the level that would be achieved absent such exemption. Consequently, the Agency renews the exemption from the CDL requirement of § 383.23 previously granted to Daimler and Mr. Ennerst. Mr. Ennerst may drive CMVs in this country without a U.S. State-issued CDL for two additional years unless this exemption is revoked earlier by the FMCSA.

Terms and Conditions

The exemption remains subject to the same terms and conditions originally imposed by FMCSA: (1) Daimler and the driver must comply with all other applicable provisions of the FMCSRs, (2) the driver must be in possession of this exemption document and a valid German CDL, (3) the driver must be employed by and operate the CMV within the scope of his duties for Daimler, (4) Daimler must notify FMCSA within 5 business days in writing of any accident, as defined in 49 CFR 390.5, involving this driver, and (5) Daimler must notify FMCSA in writing if this driver is convicted of a disqualifying offense under § 383.51 or § 391.15 of the FMCSRs. The exemption will be revoked if: (1) Mr. Ennerst fails to comply with the terms and conditions of the exemption; (2) the exemption results in a lower level of safety than was maintained before it was granted; or (3) continuation of the exemption would be inconsistent with the goals and objectives of 49 U.S.C. 31315 and 31136. The exemption expires on July 22, 2017.

Issued on: July 20, 2015.
T.F. Scott Darling, III,
Chief Counsel.

[FR Doc. 2015-18676 Filed 7-29-15; 8:45 am]

BILLING CODE 4910-EX-P